DEPARTMENT OF JUSTICE

[OMB Number 1140-0020]

Agency Information Collection Activities; Proposed eCollection eComments Requested; Revision of a Currently Approved Collection; Firearms Transaction Record/Registro de Transacción de Armas de Fuego—ATF Form 4473 (5300.9)

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection is being revised to include a Continuation Sheet, as well as changes to the content and layout of the form. There is also a decrease in the total respondents and burden hours associated with this information collection (IC). The proposed IC is also being published to obtain comments from the public and affected agencies.

DATES: Comments are encouraged and will be accepted for 60 days until February 24, 2020.

FOR FURTHER INFORMATION CONTACT: If you have additional comments, regarding the estimated public burden or associated response time, suggestions, or need a copy of the proposed information collection instrument with instructions, or additional information, please contact: Helen Koppe, ATF Firearms & Explosives Industry Division either by mail at 99 New York Avenue NE, 6 N-652, Washington, DC 20226, by email at FederalRegisterNoticeATFF4473@atf.gov, or by telephone at 202-648-7173.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection (check justification or form 83): Revision of a currently approved collection.

(2) The Title of the Form/Collection: Firearms Transaction Record/Registro de Transacción de Armas de Fuego.

(3) The agency form number, if any, and the applicable component of the Department sponsoring the collection: Form number (if applicable): ATF Form 4473 (5300.9).

Component: Bureau of Alcohol, Tobacco, Firearms and Explosives, U.S. Department of Justice.

(4) Affected public who will be asked or required to respond, as well as a brief abstract: Primary: Individuals or households. Other (if applicable): Business or other for-profit.

Abstract: The Firearms Transaction Record/Registro de Transacción de Armas de Fuego allows Federal firearms licensees to determine the eligibility of persons purchasing firearms. It also alerts buyers to certain restrictions on the receipt and possession of firearms.

(5) An estimate of the total number of respondents and the amount of time estimated for an average respondent to respond: An estimated 17,189,101 respondents will utilize the form annually, and it will take each respondent approximately 30 minutes to complete their responses.

(6) An estimate of the total public burden (in hours) associated with the collection: The estimated annual public burden associated with this collection is 8,594,551 hours, which is equal to 17,189,101 (# of respondents) * 1 (# of responses per respondent) * .5 (30 minutes).

(7) An Explanation of the Change in Estimates: The adjustments associated with this information collection include a reduction in the total respondents to this IC by 1,086,139. Consequently, the hourly burden for this IC has also decreased by 543,069 hours, since the last renewal in 2016.

If additional information is required contact: Melody Braswell, Department Clearance Officer, United States Department of Justice, Justice Management Division, Policy and Planning Staff, Two Constitution Square, 145 N Street NE, 3E.405A, Washington, DC 20530.

Dated: December 18, 2019.
Melody Braswell,
Department Clearance Officer for PRA, U.S. Department of Justice.

[FR Doc. 2019-27719 Filed 12-23-19; 8:45 am]

BILLING CODE 4410-FY-P